Title 3—

The President

Proclamation 7457 of July 25, 2001

National Korean War Veterans Armistice Day, 2001

By the President of the United States of America

A Proclamation

The sounds of war thundered as a furious struggle took place 51 years ago in a country unknown to many Americans. The battleground that was Korea in the years 1950 to 1953 tested the resolve, courage, and commitment of an America barely 5 years beyond the tremendous sacrifices of World War II. Undaunted, America again marshaled her forces to defend a population facing tyranny and aggression.

Freedom for the Republic of Korea was purchased with deep sacrifice and with honor. In 38 months of intense fighting, 33,665 Americans gave their lives in battle. Our Nation's highest military award, the Medal of Honor, was awarded to 131 members of the U.S. Armed Forces, more than 90 of them posthumously. Yet the challenge of Korea was not just a formidable adversary, but also a harsh and forbidding climate. The 1.8 million service men and women who served there suffered bitter winters that would claim casualties approaching those inflicted by guns, shrapnel, and bayonets. When the Military Armistice Agreement, effective 48 years ago, silenced the guns on the Korean peninsula, it marked the end of the world's first determined stand against Communist aggression. It signaled the beginning of the Cold War, and foreshadowed the eventual dismantling of global Communism.

Today, the liberties defended there half a century ago are the inheritance of 47 million citizens of a democratic, prosperous, and progressive Republic of Korea. The young Americans who fought and died there kept faith with a just cause, and in so doing, kept faith with the principles and ideals on which our Nation was founded. They immeasurably blessed the Republic of Korea and brought great honor to our Nation as a defender of freedom. Because of these truths, we recognize the Korean War for what it was and is—not a “forgotten war,” but a remembered victory.

The Congress, by passing Public Law 104-19 (36 U.S.C. 127), has designated July 27, 2001, as “National Korean War Veterans Armistice Day” and has authorized and requested the President to issue a proclamation in observance of this day.

NOW, THEREFORE, I, GEORGE W. BUSH, President of the United States of America, do hereby proclaim July 27, 2001, as National Korean War Veterans Armistice Day. I call upon all Americans to observe this day with appropriate ceremonies and activities that honor and give thanks to our distinguished Korean War veterans. I also ask Federal departments and agencies and interested groups, organizations, and individuals to fly the flag of the United States at half-staff on July 27, 2001, in memory of the Americans who died as a result of their service in Korea.

IN WITNESS WHEREOF, I have hereunto set my hand this twenty-fifth day of July, in the year of our Lord two thousand one, and of the Independence of the United States of America the two hundred and twenty-sixth.

B

[FR Doc. 01-19112

Filed 7-27-01; 8:47 am]

Billing code 3195-01-P